DEPARTMENT OF TRANSPORTATION

Office of the Secretary

Notice of Applications for Certificates of Public Convenience and Necessity and Foreign Air Carrier Permits Filed Under Subpart Q During the Week Ending April 14, 2000

The following Applications for Certificates of Public Convenience and Necessity and Foreign Air Carrier Permits were filed under subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7231.

Date Filed: April 11, 2000.

Due Date for Answers, Conforming Applications, or Motion to Modify Scope: May 2, 2000.

Description: Application of Air-Serv, Inc. d/b/a AirServ (“AirServ”) pursuant to 49 U.S.C. Section 41102, Parts 201, 204 and Subpart B, applies for a certificate of public convenience and necessity to authorize it to engage in foreign charter air transportation of persons, property and mail.

Docket Number: OST-2000-7232.

Date Filed: April 11, 2000.

Due Date for Answers, Conforming Applications, or Motion to Modify Scope: May 2, 2000.

Description: Application of Air-Serv, Inc. d/b/a AirServ (“AirServ”) pursuant to 49 U.S.C. Section 41102, Parts 201, 204 and Subpart B, applies for a certificate of public convenience and necessity to engage in interstate charter air transportation of persons, property and mail.

Docket Number: OST-2000-7251.

Date Filed: April 13, 2000.

Due Date for Answers, Conforming Applications, or Motion to Modify Scope: May 4, 2000.

Description: Application of C.A.L. Cargo Air Lines Ltd. (“C.A.L.”) pursuant to 49 U.S.C. Section 41302, Part 211.20 and Subpart B, applies for an initial foreign air carrier permit to provide foreign air transportation of property and mail between Tel Aviv and New York (JFK)/Chicago (O'Hare) via Luxembourg and Gander, Newfoundland and to provide all cargo foreign air transportation under charter pursuant to the provisions of 14 CFR Part 212.

Andrea M. Jenkins,
Federal Register Liaison.

[FR Doc. 00-11692 Filed 5-9-00; 8:45 am]

BILLING CODE 4910-62-P